DEPARTMENT OF TRANSPORTATION

Federal Railroad Administration

49 CFR Parts 209 and 230

[FRA Docket No. RSSL-98-1, Notice No. 5]

Inspection and Maintenance Standards for Steam Locomotives

AGENCY: Federal Railroad Administration (FRA), Department of Transportation (DOT).

ACTION: Notice of public meeting.

SUMMARY: On November 17, 1999, FRA published the final rule on inspection and maintenance of steam locomotives (65 FR 62828). The Inspection and Maintenance Standards for Steam Locomotives, Title 49, Code of Federal Regulations (CFR), parts 209 and 230, which took effect on January 18, 2000, sets forth new inspection and implementation requirements. FRA is holding a public meeting to explain the implementation schedule and general requirements for inspection and maintenance of steam locomotives under the rule. This meeting will also provide interested parties with the opportunity to discuss the rule and ask questions of the presenters. All parties interested in the new rule on inspection and maintenance of steam locomotives are invited to attend this meeting.

DATES: The meeting will be held on July 27, 2000, at 8 a.m.

ADDRESSES: The meeting will be held on July 27, 2000, in room 570 of the Bishop Henry Whipple Federal Building, One Federal Drive, Fort Snelling, Minnesota 55111-4007.

FOR FURTHER INFORMATION CONTACT:

George Scerbo, Motive Power & Equipment Specialist, Office of Safety, FRA, 1120 Vermont Avenue NW, Washington, DC 20590 (telephone 202-493-6249); or

Paul F. Byrnes, Trial Attorney, Office of Chief Counsel, FRA, 1120 Vermont Avenue NW, Washington, DC 20590 (202-493-6032).

Grady C. Cothen,
Deputy Associate Administrator for Safety Standards and Program Development.

[FR Doc. 00-12950 Filed 5-22-00; 8:45 am]

BILLING CODE 4910-06-P